DEPARTMENT OF TRANSPORTATION

Federal Aviation Administration

Notice of Intent To Rule on Application 04-04-C-00-MCI To Impose and Use the Revenue From a Passenger Facility Charge (PFC) Collected at the Kansas City International Airport for Use at the Charles B. Wheeler Downtown Airport, Kansas City, MO

AGENCY: Federal Aviation Administration (FAA), DOT.

ACTION: Notice of intent to rule on application.

SUMMARY: The FAA proposes to rule and invites public comment on the application to impose and use the revenue from a PFC collected at the Kansas City International Airport for use at the Charles B. Wheeler Downtown Airport, Kansas City, Missouri, under the provisions of the Aviation Safety and Capacity Expansion Act of 1990 (Title IX of the Omnibus Budget Reconciliation Act of 1990) (Pub. L. 101-508) and part 158 of the Federal Aviation Regulations (14 CFR part 158.).

DATES: Comments must be received on or before September, 2004.

ADDRESSES: Comments on this application may be mailed or delivered in triplicate to the FAA at the following address: Federal Aviation Administration, Central Region, Airports Division, 910 Locust Street, Kansas City, MO 64106.

In addition, one copy of any comments submitted to the FAA must be mailed or delivered to Mr. Mark VanLoh, Director of Aviation, Kansas City International Airport, at the following address: Kansas City Aviation Department, 601 Brasilia Avenue, Kansas City, Missouri 64153.

Air carriers and foreign air carriers may submit copies of written comments previously provided to the Kansas City International Airport, Kansas City, Missouri, under section 158.23 of part 158.

FOR FURTHER INFORMATION CONTACT: Nicoletta S. Oliver, Airports Compliance Specialist, FAA, Central Region, 901 Locust Street, Kansas City, MO 64106, (816) 329-2642. The application may be reviewed in person at the same location.

SUPPLEMENTARY INFORMATION: The FAA proposes to rule and invites public comment on the application to impose and use the revenue from a PFC collected at the Kansas City International Airport for use at the Charles B. Wheeler Downtown Airport under the provisions of the Aviation Safety and Capacity Expansion Act of 1990 (Title IX of the Omnibus Budget Reconciliation Act of 1990) (Pub. L. 101-508) and part 158 of the Federal Aviation Regulations (14 CFR part 158).

On July 21, 2004, the FAA determined that the application to impose and use the revenue from a PFC submitted by the City of Kansas City, was substantially complete within the requirements of section 158.25 of part 158. The FAA will approve or disapprove the application, in whole or in part, no later than January 5, 2005.

The following is a brief overview of the application.

Level of the proposed PFC: $3.00.

Proposed charge effective date: October 2017.

Proposed charge expiration date: December 2017.

Total estimated PFC revenue: $4,066,500.

Brief description of proposed project(s): Reconstruct Runway 1/19 at the Charles B. Wheeler Downtown Airport. Any person may inspect the application in person at the FAA office listed above under FOR FURTHER INFORMATION CONTACT.

In addition, any person may, upon request, inspect the application, notice and other documents germane to the application in person at the Kansas City International Airport, Kansas City, MO.

Issued in Kansas City, Missouri, on July 22, 2004.
George A. Hendon,
Manager, Airports Division, Central Region.

[FR Doc. 04-17534 Filed 7-30-04; 8:45 am]

BILLING CODE 4910-13-M